ENVIRONMENTAL PROTECTION AGENCY

40 CFR Part 52

[EPA-R06-OAR-2010-0611; FRL 9923-23-Region 6]

Approval and Promulgation of Implementation Plans; Texas; Revision to Control of Air Pollution From Volatile Organic Compounds; Alternative Leak Detection and Repair Work Practice

AGENCY: Environmental Protection Agency (EPA).

ACTION: Proposed rule.

SUMMARY: The Environmental Protection Agency (EPA) is proposing to approve a Texas State Implementation Plan (SIP) revision for control of volatile organic compound (VOC) emissions from fugitive sources that was submitted to EPA on July 2, 2010. The SIP revision allows for a voluntary alternative work practice to detect fugitive emission leaks using optical gas imaging instruments under the EPA federal Leak Detection and Repair (LDAR) requirements. The EPA adopted through rulemaking the use of this voluntary alternative work practice for federal leak detection and repair of fugitive emissions sources. EPA has evaluated the SIP revision and determined that it is consistent with the federal LDAR regulations. EPA is approving this action under Section 110 of the Clean Air Act.

DATES: Written comments should be received on or before March 30, 2015.

ADDRESSES: Comments may be mailed to Mr. Guy Donaldson, Chief, Air Planning Section (6PD-L), Environmental Protection Agency, 1445 Ross Avenue, Suite 1200, Dallas, Texas 75202-2733. Comments may also be submitted electronically or through hand delivery/courier by following the detailed instructions in the ADDRESSES section of the direct final rule located in the rules section of this Federal Register.

FOR FURTHER INFORMATION CONTACT: Jennifer Huser, (214) 665-7347, huser.jennifer@epa.gov.

SUPPLEMENTARY INFORMATION: In the final rules section of this Federal Register, EPA is approving the State's SIP submittal as a direct final rule without prior proposal because the Agency views this as a noncontroversial submittal and anticipates no adverse comments. A detailed rationale for the approval is set forth in the direct final rule. If no relevant adverse comments are received in response to this action no further activity is contemplated. If EPA receives relevant adverse comments, the direct final rule will be withdrawn and all public comments received will be addressed in a subsequent final rule based on this proposed rule. EPA will not institute a second comment period. Any parties interested in commenting on this action should do so at this time.

For additional information, see the direct final rule which is located in the rules section of this Federal Register.

Dated: February 9, 2015.
Ron Curry,
Regional Administrator, Region 6.

[FR Doc. 2015-03587 Filed 2-25-15; 8:45 am]

BILLING CODE 6560-50-P